FEDERAL COMMUNICATIONS COMMISSION

47 CFR Part 73

[DA 05-744; MB Docket No. 05-128; RM-11210]

Radio Broadcasting Services; Tipton, OK

AGENCY: Federal Communications Commission.

ACTION: Proposed rule.

SUMMARY: This document requests comments on a petition for rule making filed by Charles Crawford (“Petitioner”). Petitioner requests that the Commission allot Channel 233C3 to Tipton, Oklahoma, as its first local aural transmission service. The proposed coordinates for Channel 233C3 at Tipton, Oklahoma are 34-32-30 North Latitude and 99-14-10 West Longitude, with a site restriction of 9.8 kilometers (6.1 miles) northwest of Tipton.

DATES: Comments must be filed on or before May 10, 2005, and reply comments on or before May 25, 2005.

ADDRESSES: Secretary, Federal Communications Commission, 445 12th Street, SW., Room TW-A325, Washington, DC 20554. In addition to filing comments with the FCC, interested parties should serve Petitioner and his counsel, as follows: Charles Crawford, 4553 Bordeaux Ave., Dallas, Texas 75206; and Gene A. Bechtel, Esq., (counsel to Petitioner), 1050 Seventeenth Street, NW., Suite 600, Washington, DC.

FOR FURTHER INFORMATION CONTACT: R. Barthen Gorman, Media Bureau, (202) 418-2180.

SUPPLEMENTARY INFORMATION: This is a synopsis of the Commission's Notice of Proposed Rule Making, MB Docket No. 05-128, adopted March 21, 2005 and released March 23, 2005. The full text of this Commission decision is available for inspection and copying during regular business hours in the FCC's Reference Information Center at Portals II, 445 12th Street, SW., CY-A257, Washington, DC 20554. This document may also be purchased from the Commission's duplicating contractors, Best Copy and Printing, Inc., Portals II, 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR § 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Oklahoma, is amended by adding Tipton, Channel 233C3.

Federal Communications Commission
John A. Karousos,
Assistant Chief, Audio Division, Media Bureau.

[FR Doc. 05-7067 Filed 4-12-05; 8:45 am]

BILLING CODE 6712-01-P